DEPARTMENT OF COMMERCE

National Oceanic and Atmospheric Administration

50 CFR Part 300

[Docket No. 240229-0065; RTID 0648-XD690]

Pacific Halibut Fisheries; Catch Sharing Plan; 2024 Annual Management Measures

AGENCY: National Marine Fisheries Service (NMFS), National Oceanic and Atmospheric Administration (NOAA), Commerce.

ACTION: Final rule.

SUMMARY: The Assistant Administrator for Fisheries, National Oceanic and Atmospheric Administration, on behalf of the International Pacific Halibut Commission (IPHC), publishes as regulations the 2024 annual management measures governing the Pacific halibut fishery that have been recommended by the IPHC and accepted by the Secretary of State, with the concurrence of the Secretary of Commerce. These measures are intended to enhance the conservation of Pacific halibut and further the goals and objectives of the Pacific Fishery Management Council (PFMC) and the North Pacific Fishery Management Council (NPFMC).

DATES: The IPHC's 2024 annual management measures became effective March 9, 2024. The 2024 management measures are effective until superseded.

ADDRESSES: Additional requests for information regarding this action may be obtained by contacting the International Pacific Halibut Commission, 2320 W Commodore Way, Suite 300, Seattle, WA 98199-1287; or Sustainable Fisheries Division, NMFS Alaska Region, P.O. Box 21668, Juneau, AK 99802; or Sustainable Fisheries Division, NMFS West Coast Region, 1201 NE Lloyd Blvd., Suite 1100, Portland, OR 97232. This final rule also is accessible via the internet at the Federal eRulemaking Portal at https://www.regulations.gov, identified by docket number NOAA-NMFS-2024-0038.

FOR FURTHER INFORMATION CONTACT: For Convention waters off Alaska, Kurt Iverson, 907-586-7210; or, for Convention waters off the U.S. West Coast, Heather Fitch, 360-320-6549.

SUPPLEMENTARY INFORMATION:

Background

The IPHC has recommended regulations that would govern the Pacific halibut fishery in 2024, pursuant to the Convention between Canada and the United States for the Preservation of the Halibut Fishery of the North Pacific Ocean and Bering Sea (Convention), signed at Ottawa, Ontario, on March 2, 1953, as amended by a Protocol Amending the Convention (signed at Washington, DC, on March 29, 1979).

As provided by the Northern Pacific Halibut Act of 1982 (Halibut Act), the Secretary of State, with the concurrence of the Secretary of Commerce, may accept or reject, on behalf of the United States, regulations recommended by the IPHC in accordance with the Convention. 16 U.S.C. 773b. The Secretary of State, with the concurrence of the Secretary of Commerce, accepted the 2024 IPHC regulations on March 9, 2024 thereby making them effective.

The Halibut Act provides the Secretary of Commerce with the authority and general responsibility to carry out the requirements of the Convention and the Halibut Act. The PFMC and NPFMC may develop, and the Secretary of Commerce may implement, regulations governing harvesting privileges among U.S. fishermen in U.S. waters that are in addition to, and not in conflict with, approved IPHC regulations. The NPFMC has exercised this authority in developing halibut management programs for three fisheries that harvest halibut off Alaska: the subsistence, sport, and commercial fisheries. The PFMC has exercised this authority by developing a catch sharing plan governing the allocation of halibut and management of sport and commercial halibut fisheries on the U.S. West Coast.

The IPHC apportions catch limits for the Pacific halibut fishery among regulatory areas (Figure 1): Area 2A (Oregon, Washington, and California), Area 2B (British Columbia), Area 2C (Southeast Alaska), Area 3A (Central Gulf of Alaska), Area 3B (Western Gulf of Alaska), and Area 4 (which is further divided into 5 areas, 4A through 4E, in the Bering Sea and Aleutian Islands of Western Alaska).

Subsistence and sport halibut fishery regulations for Alaska, and tribal, sport, and directed commercial halibut fishery regulations for Area 2A, are codified at 50 CFR part 300. Commercial halibut fisheries off Alaska are subject to regulations resulting from the Individual Fishing Quota (IFQ) Program, the Community Development Quota (CDQ) Program (50 CFR part 679), and the area-specific catch sharing plans for Areas 2C, 3A, and Areas 4C, 4D, and 4E, respectively.

The NPFMC implemented a catch sharing plan among commercial IFQ and CDQ halibut fisheries in IPHC Regulatory Areas 4C, 4D, and 4E (Area 4, Western Alaska) through rulemaking, and the Secretary of Commerce approved the plan on March 20, 1996 (61 FR 11337). The Area 4 catch sharing plan regulations are codified at 50 CFR 300.65. New annual regulations pertaining to the Area 4 catch sharing plan also may be implemented through IPHC action, subject to acceptance by the Secretary of State, with the concurrence of the Secretary of Commerce.

The NPFMC recommended and NMFS implemented through rulemaking a catch sharing plan for commercial IFQ and guided sport (charter) halibut fisheries in IPHC Regulatory Areas 2C and 3A on January 13, 2014 (78 FR 75844, December 12, 2013). The Area 2C and 3A catch sharing plan regulations are codified at 50 CFR 300.65. The catch sharing plan defines an annual process for allocating halibut between the commercial and charter fisheries so that each sector's allocation varies in proportion to halibut abundance, specifies a public process for setting annual management measures, and authorizes limited annual leases of commercial IFQ for use in the charter fishery as guided angler fish (GAF).

The IPHC held its annual meeting in Anchorage, Alaska, from January 22 through 26, 2024, and recommended a number of changes to the previous IPHC regulations (88 FR 14066, March 7, 2023). On March 9, 2024, the Secretary of State, with the concurrence of the Secretary of Commerce, accepted the annual management measures, including the following changes to Section 5, Section 6, Section 9, Section 27, Section 28, and other Sections of the 2024 IPHC regulations:

1. New halibut catch limits in all regulatory areas. The catch limits are presented in two tables in Section 5. They distinguish between limits resulting from Commission decisions and limits that result from domestic catch sharing plans that have been developed by the respective United States and Canada Governments;

2. The addition of a footnote to the fishery limit table in Section 5, and a new paragraph in Section 6. The footnote and the new paragraph each reference the Area 2A Pacific halibut catch sharing plan, to clarify that the plan includes provisions for in-season reallocations of Pacific halibut recreational fishery catch limits;

3. New commercial fishery season dates and start time in Section 9;

4. New management measures in Section 28 for Area 2C and Area 3A guided sport fisheries;

5. Updates to fishery log requirements for commercial fisheries in Section 19; and

6. Minor technical corrections to improve consistency and clarity throughout the IPHC regulations.

Pursuant to regulations at 50 CFR 300.62, the 2024 IPHC annual management measures are published in the Federal Register in this action to provide notice of their regulatory effectiveness and to inform persons subject to the regulations of their restrictions and requirements. Because the regulations published in this action are applicable to the entire Convention area, these regulations include some provisions relating to and affecting Canadian fishing and fisheries. In separate actions, NMFS may implement more restrictive regulations for the U.S. halibut fishery or components of it; therefore, anglers are advised to check the current Federal and IPHC regulations prior to fishing.

Catch Limits

The IPHC recommended to the governments of Canada and the United States fishery catch limits for 2024 totaling 28,860,000 pounds (lb) (13,091 metric tons (mt)). The IPHC refers to catch limits as Fishery Constant Exploitation Yield (FCEY), which are derived from Total Constant Exploitation Yield (TCEY) by directed fisheries that are specified in the IPHC regulations and are subject to area-specific catch agreements among the domestic parties. Coastwide, the 2024 FCEY decreased 3.3 percent from the FCEY implemented in 2023. Except for Area 2C, which increased by 1.4 percent, the FCEY in each regulatory area decreased relative to the 2023 catch limit. A description of the process the IPHC used to set these catch limits follows.

For the upcoming 2024 halibut fishing year, the IPHC conducted its annual stock assessment using a range of updated data sources as described in detail in the IPHC overview of data sources for the Pacific halibut stock assessment, harvest policy, and related analyses (IPHC-2024-AM100-10; available at https://www.iphc.int). To evaluate the Pacific halibut stock, the IPHC uses an “ensemble” of 4 equally weighted models: 2 long time-series models incorporating data from 1888 to the present and 2 short time-series models incorporating data from 1992 to the present. For each time-series, the two models include data that are either divided by four geographical regions or aggregated into coastwide summaries. These models incorporate data through 2023 from the IPHC Fishery Independent Setline Survey (FISS); the commercial halibut fishery; the NMFS Eastern Bering Sea trawl survey; length and weight-at-age and male/female sex ratio estimates by region in the directed commercial fisheries and in the FISS; and age distribution information for bycatch, sport, and sublegal discard removals.

The results of the ensemble models are integrated and incorporate uncertainty in natural mortality rates, environmental effects on recruitment, and other structural and parameter categories, consistent with practices in place since 2012. The data and assessment models used by the IPHC are reviewed by the IPHC's Scientific Review Board, comprised of non-IPHC scientists who provide an independent scientific review of the data and stock assessment to provide recommendations to IPHC staff and the Commissioners. The Scientific Review Board did not identify any substantive errors in the data or methods used in the 2023 stock assessment. NMFS believes the IPHC's data and assessments models constitute the best available science on the status of the Pacific halibut resource.

The IPHC's data, including the FISS, indicate that the Pacific halibut stock declined continuously from the late 1990s to around 2012, largely as a result of decreasing size at a given age (size-at-age), higher harvest rates in the early 2000s, and weaker recruitment than observed during the 1980s. From about 2013 to 2016, there was a slight increasing trend in the spawning biomass, followed by a slight decline continuing into the current assessment, where the spawning biomass appears to have stabilized. Overall, the spawning biomass is estimated to be approximately 174,000,000 lb (78,925 mt) at the beginning of 2024. The spawning biomass is currently estimated to be at 42 percent of its unfished state, near the lowest level observed since the 1970s. This estimate reflects updated calculations recommended during stock assessment external review and review by the Scientific Review Board, as well as developments in the IPHC Management Strategy Evaluation.

The IPHC accounts for the total mortality of halibut from all sources, and employs a management procedure that establishes a coastwide reference level of fishing intensity so that the Spawning Potential Ratio (SPR) is equal to 43 percent. The reference fishing intensity of F43 percent SPR (i.e., F value) would allow a level of fishing intensity that is expected to result in approximately 43 percent of the spawning biomass per recruit compared to an unfished stock (i.e., no fishing mortality). Lower F percentages would be expected to result in higher fishing intensity.

The IPHC harvest decision table (Table 3 in IPHC-2024-AM100-12; available at https://www.iphc.int) provides a comparison of the relative risk of a decrease in stock biomass, stock status, or fishery metrics for a range of fishing intensities for 2024. The harvest decision table employs two metrics of fishing mortality: (1) the TCEY, which includes harvests and incidental discard mortality from directed commercial fisheries; mortality estimates from sport, subsistence, and personal use; and estimates of non-directed discard mortality of halibut over 26 inches (66.0 centimeters (cm)) (O26); and (2) Total Mortality, which includes all the above sources of mortality, plus estimates of non-directed discard mortality of halibut less than 26 inches (66.0 cm) (U26). Although U26 halibut mortality is factored into the stock assessment and harvest strategy calculations, there is currently no reliable tool for describing the annual coastwide distribution of U26 halibut.

For 2024, the IPHC adopted a TCEY totaling 35,280,000 lb (16,003 mt) coastwide. This corresponds to a fishing intensity of approximately F52 percent, which is more conservative than the F43 percent reference level of fishing intensity used to establish TCEYs in years prior to 2023. The 2024 TCEY is 1,690,000 lb (767 mt), or 4.6 percent, less than the TCEY adopted in 2023.

In making its recommendation, the IPHC considered likely stock status and uncertainties, as well as the significant social and economic impacts of catch limits among areas. The IPHC noted in 2023 that a recent change in the treatment of the natural mortality rate, from the previously assumed value of 0.15 to an estimated value of to 0.21 in the short regional model, and its effect on the full ensemble, resulted in more optimistic projections due to the increase in the estimated productivity of the stock. The IPHC noted that despite the positive outlook for the long-term status of the stock, the near term fishery will rely heavily on a single year class (2012), and also noted that the FISS and commercial fishery catch rates have been very low for two consecutive years and are currently at the lowest rates observed in 30 years.

At a coastwide TCEY of 35,280,000 lb (16,003 mt), the IPHC considered the probability that the spawning biomass will decrease from 2025 to 2027 relative to 2024. Specifically, the IPHC estimated a 40 percent probability of stock decline through 2024, and the same 40 percent probability of stock decline through 2026. The IPHC noted that if the recent reference level of fishing intensity were adopted, the probability of a spawning biomass decline was 74 percent by 2024 and 72 percent by 2026. The factors that the IPHC considered in making their TCEY recommendations are described in the 2024 Annual Meeting Report (IPHC-2024-AM100-R; available at https://www.iphc.int), and the key recommendations are briefly summarized here.

This final rule does not establish the combined commercial and recreational catch limit for Area 2B (British Columbia), which is subject to rulemaking by the Canada and British Columbia Governments. However, the IPHC's recommendation for the Area 2B catch limit is directly related to the current and future U.S. catch limits established by this final rule and is therefore discussed herein. The IPHC recommended a 2024 TCEY of 6,470,000 (2,935 mt) for Area 2B, which equates to 18.3 percent of the total coastwide TCEY and is a 4.6 percent reduction from 2023. The IPHC made this recommendation after considering recent harvests in Area 2B, the equal 4.6 percent reduction recommended for the total U.S. areas, and similar factors associated with the stock conditions, commercial fishery and FISS performance, and stock assessment results described above in the 2024 Annual Meeting Report (IPHC-2024-AM100-R; available at https://www.iphc.int).

The IPHC adopted an allocation to Area 2A that would provide a TCEY of 1,650,000 lb (748 mt) with a combined commercial, tribal, and recreational FCEY catch limit of 1,470,000 (667 mt). The IPHC noted that the United States Government recognizes its trust responsibility to the 13 treaty tribes in IPHC Regulatory Area 2A that depend upon Pacific halibut. As such, the U.S. Commissioners have consistently supported a TCEY of 1,650,000 lb for Regulatory Area 2A since 2019. This allocation reflects the needs of West Coast Pacific halibut users, with minimal impact on the larger Pacific halibut biomass that is distributed to the north, and it remains a small fraction of the IPHC Region 2 allocation. Stock assessment scientists at the IPHC have affirmed that under the current status of the Pacific halibut stock, a higher TCEY for Regulatory Area 2A than what may be indicated by the modeled stock distribution will not create a conservation concern.

After the allocations for Areas 2A and 2B are accounted for, the IPHC apportioned the remaining TCEY to the Alaska regulatory areas (Areas 2C through Area 4) after considering the distribution of harvestable biomass of halibut based on the FISS, as well as 2023 harvest rates, the recommendations from the IPHC's advisory bodies, public input, and social and economic factors. All Alaska areas decreased in TCEY relative to 2023 (see table 1). The largest decreases were in Areas 4B (−8.1 percent) and 4A (−6.9 percent), while Areas 2C, 3A, 3B, and 4CDE received decreases ranging from −1 to −6.0 percent, relative to 2023. The IPHC determined that the 2024 catch limit recommendations are consistent with its conservation objectives for the halibut stock and its management objectives for the halibut fisheries.

The IPHC also considered the catch sharing plan for Area 4CDE developed by the NPFMC in its TCEY recommendation. The Area 4CDE catch limit is determined by subtracting estimates of the Area 4CDE subsistence harvests, commercial discard mortality, and non-directed discard mortality of halibut over 26 inches (66.0 cm) from the area TCEY. When the resulting Area 4CDE catch limit is greater than 1,657,600 lb (752.87 mt), a direct allocation of 80,000 lb (36.29 mt) is made to Area 4E to provide CDQ fishermen in that area with additional harvesting opportunity. After this 80,000 lb (36.29 mt) allocation is deducted from the catch limit, the remainder is divided among Areas 4C, 4D, and 4E according to the percentages specified in the catch sharing plan. Those percentages are 46.43 percent each to 4C and 4D and 7.14 percent to 4E. For 2024, the IPHC recommended a catch limit for Area 4CDE of 2,060,000 (934 mt).

Table 1—Percent Change in TCEY Mortality Limits From 2023 to 2024 by IPHC Regulatory Area
Regulatory area | 2023 Total mortality limit (lb) | 2024 Total mortality limit (lb) | Change from 2023 (percent)
2A | 1,650,000 (748 mt) | 1,650,000 (748 mt) | 0.0
2B | 6,780,000 (3,075 mt) | 6,470,000 (2,935 mt) | −4.6
2C | 5,850,000 (2,654 mt) | 5,790,000 (2,626 mt) | −1.0
3A | 12,080,000 (5,479 mt) | 11,360,000 (5,153 mt) | −6.0
3B | 3,670,000 (1,665 mt) | 3,450,000 (1,565 mt) | −6.0
4A | 1,730,000 (785 mt) | 1,610,000 (730 mt) | −6.9
4B | 1,360,000 (617 mt) | 1,250,000 (567 mt) | −8.1
4CDE | 3,850,000 (1,746 mt) | 3,700,000 (1,678 mt) | −3.9
Coastwide | 36,970,000 (16,769 mt) | 35,280,000 (16,003 mt) | −4.6

Commercial Halibut Fishery Opening and Closing Dates and Opening Time

The IPHC considers advice from the IPHC's two advisory bodies, as well as direct testimony from the public, when selecting opening and closing dates and times for the commercial halibut fishery. The 2024 commercial halibut fishery opening date for all IPHC regulatory areas is March 15, 2024. The closing date for the commercial halibut fisheries in all IPHC regulatory areas is December 7, 2024. These commercial season dates are a slight change from the season dates adopted by the IPHC in 2023. The season opening of March 15 is similar to the mid-March opening common in the years prior to 2021, while the closing date of December 7 is consistent with the closing dates from 2021 through 2023, representing an extension of time beyond the mid-November closing common in the years prior to 2021. The extended season maintains harvesting and market flexibility that stakeholders have identified as important during the current period of uncertainty. The season dates allow for the anticipated time required to fully harvest the commercial halibut catch limits, seasonal holidays, and adequate time for IPHC staff to review the complete record of 2024 commercial catch data for use in the stock assessment process. The IPHC also considered the time required for the administrative tasks that are linked to halibut regulations developed independently by the domestic partners when establishing these season dates.

The IPHC also changed the time of day for opening the 2024 fishery from 12:00, which was in place in previous years, to 06:00 for 2024. This change was in response to recommendations from the IPHC advisory bodies, which noted that allowing a full day of fishing on March 15 facilitates access to markets and improves fishing efficiency and opportunity.

Area 2A Catch Sharing Plan

The NMFS West Coast Region published a proposed rule, with public comments accepted for 30 days, to approve the Pacific halibut catch sharing plan for Area 2A off Washington, Oregon, and California and implement annual management measures for the Area 2A sport fishery, as recommended by the PFMC in the catch sharing plan. These annual management measures include sport fishery subarea allocations and management measures that are not implemented through the IPHC. NMFS will address any comments received in a final rule.

NMFS West Coast Region will separately publish a proposed rule for annual management measures for the Area 2A non-tribal directed commercial fishery. Management measures will included vessel catch limits, as well as fishing periods that fall within the coastwide commercial season dates set forth in Section 9 of the IPHC regulations. Public comments will be accepted and NMFS will address any comments received in a final rule.

Once published, the proposed and final rules for Area 2A will be available on the NMFS West Coast Region's website at https://www.fisheries.noaa.gov/west-coast/commercial-fishing/pacific-halibut-fishing-west-coast and also at https://www.regulations.gov.

The IPHC added a footnote to Section 5 and a new paragraph to Section 6 of the 2024 IPHC regulations that allow for in-season transfer of sport fishery allocations. These clarifying modifications mirror changes to the Area 2A catch sharing plan adopted by the PFMC at their November 2023 meeting.

Catch Sharing Plan for Area 2C and Area 3A

In 2014, NMFS implemented a catch sharing plan for Area 2C and Area 3A. The catch sharing plan defines an annual process for allocating halibut between the charter and commercial fisheries in Area 2C and Area 3A and establishes allocations for each fishery. Under the catch sharing plan, the IPHC adopted combined catch limits (CCL) for the commercial and charter halibut fisheries in Area 2C and Area 3A. Each CCL includes estimates of discard mortality for each fishery. The catch sharing plan was implemented to achieve the halibut fishery management goals of the NPFMC. More information is provided in the final rule implementing the catch sharing plan (78 FR 75844, December 12, 2013). Implementing regulations for the catch sharing plan are at 50 CFR 300.65. The Area 2C and Area 3A catch sharing plan allocations are located in tables 1 through 4 of subpart E of 50 CFR part 300. To allow additional flexibility for individual commercial and charter fishery participants, the catch sharing plan also authorizes annual transfers of commercial halibut IFQ as GAF to charter halibut permit holders for harvest in the charter fishery. Pacific halibut that are retained by charter vessel anglers as GAF are not subject to the annual charter halibut management measures specified in the 2024 IPHC regulations. Under the catch sharing plan regulations, charter vessel anglers may use GAF to harvest up to two halibut of any size per day. Complete GAF regulations for the catch sharing plan are at 50 CFR 300.65.

At its January 2024 meeting, the IPHC adopted a CCL of 4,420,000 (2,005 mt) for Area 2C. Following the catch sharing plan allocations in tables 1 and 3 of subpart E of 50 CFR part 300, the charter fishery is allocated 810,000 (367 mt) of the CCL, and the remainder of the CCL, 3,610,000 lb (1,637 mt), is allocated to the commercial fishery. Discard mortality in the amount of 110,000 lb (50 mt) was deducted from the commercial allocation to obtain the commercial catch limit of 3,500,000 lb (1,587 mt). The commercial allocation (including discard mortality) increased by 50,000 lb (23.7 mt), or 1.4 percent, from the 2023 allocation of 3,560,000 lb (1,615 mt). The 2023 Area 2C charter allocation of 810,000 lb (367 mt) is 10,000 lb (4.5 mt), or 1.2 percent more than the 2023 charter allocation of 800,000 lb (363 mt).

The IPHC adopted a CCL of 10,000,000 lb (4,536 mt) for Area 3A. Following the catch sharing plan allocations in tables 2 and 4 of subpart E of 50 CFR part 300, the charter fishery is allocated 1,890,000 lb (857 mt) of the CCL and the remainder of the CCL, 8,100,000 lb (3,674 mt), is allocated to the commercial fishery. Discard mortality in the amount of 540,000 lb (245 mt) was deducted from the commercial allocation to obtain the commercial catch limit of 7,560,000 lb (3,429 mt). The commercial allocation (including discard mortality) decreased by 320,000 lb (145 mt), or 3.5 percent, from the 2023 allocation of 8,420,000 lb (3,819 mt). The charter allocation remained equal to the 2023 allocation.

Charter Halibut Management Measures for Area 2C and Area 3A

Guided sport (charter) halibut anglers are managed under different regulations than unguided recreational halibut anglers in Areas 2C and 3A in Alaska. According to Federal regulations at 50 CFR 300.61, a charter vessel angler means a person, paying or non-paying, receiving sport fishing guide services for halibut. Sport fishing guide services means assistance, for compensation or with the intent to receive compensation, to a person who is sport fishing, to take or attempt to take halibut by accompanying or physically directing the sport fisherman in sport fishing activities during any part of a charter vessel fishing trip. A charter vessel fishing trip is the time period between the first deployment of fishing gear into the water from a charter vessel by a charter vessel angler and the offloading of one or more charter vessel anglers or any halibut from that vessel. The regulations described below apply only to charter vessel anglers receiving sport fishing guide services during a charter vessel fishing trip for halibut in Area 2C or Area 3A. These regulations do not apply to unguided recreational anglers in any regulatory area in Alaska, nor to charter vessel anglers in areas other than Areas 2C and 3A.

To provide recommendations for annual management measures intended to limit charter harvest to the charter catch allocation, the NPFMC formed the Charter Halibut Management Committee (Committee) as a stakeholder advisory body. The Committee is composed of representatives from the charter fishing industry in Areas 2C and 3A who provide input on the preferred range of charter management measures each year. In October 2023, the Committee began their annual process by requesting analysis of management measures that would result in charter halibut removals within the range of expected allocations for each area. In addition, this annual analysis, which is prepared by the Alaska Department of Fish Game (ADFG), includes information about charter harvests in the prior year. The Analysis of Management Options for the Area 2C and 3A Charter Halibut Fisheries for 2024 (charter halibut analysis) is available at https://www.npfmc.org/.

After reviewing the charter halibut analysis, the Committee made conservative recommendations for preferred management measures to the NPFMC for 2024. These recommendations were intended to provide equitable harvest opportunity across charter business arrangements and maintain total charter harvests within the 2024 allocations for both Areas 2C and 3A. The NPFMC considered the charter halibut analysis, the recommendations of the Committee, and public testimony to develop its recommendation to the IPHC. The NPFMC has used this process to select and recommend annual management measures to the IPHC since 2012.

The IPHC recognizes the role of the NPFMC to develop policy and regulations that allocate the Pacific halibut resource among fishermen in and off Alaska and that NMFS has developed numerous regulations to support the NPFMC's goals of limiting the charter halibut harvest to the charter catch allocation. The IPHC's adopted recommendations are consistent with the recommendations of the NPFMC and the Committee. The IPHC determined that limiting charter harvests by implementing the management measures discussed below would meet conservation and allocation objectives.

Management Measures for Charter Vessel Fishing in Area 2C

For 2024 in Area 2C, the IPHC adopted the continuation of a one-fish daily bag limit that has been in effect each year for charter vessel anglers since the catch sharing plan was implemented in 2014. This bag limit is combined with day of the week closures that prohibit the retention of Pacific halibut by charter vessel anglers on all Fridays from July 19 to September 13, 2024, and size limits on all retained halibut. Size limits have proven effective in limiting the number and pounds of retained halibut.

For 2024, the size limits employ different reverse slot limits for two specific periods. From February 1 through July 14, a person on board a charter vessel (as referred to in 50 CFR 300.65) and fishing in Area 2C is prohibited from taking or possessing any halibut, with head on, that is greater than 40 inches (101.6 cm) and less than 80 inches (203.2 cm). From July 15 through December 31, the lower range of the slot limit is reduced from 40 inches (101.6 cm) to 36 inches (91.4 cm); the upper range of 80 inches (203.2 cm) remains the same. All charter halibut size limits referenced in this document are measured in a straight line from the tip of the lower jaw with mouth closed, passing over the pectoral fin, to the extreme end of the middle of the tail.

Although the 2024 Area 2C charter halibut allocation is 10,000 lb greater than the 2023 allocation, the above management measures are more restrictive than the measures implemented in 2023. To develop these measures, the Committee, the NPFMC, and IPHC considered the ADFG analysis that evaluated the performance of prior years' measures, as well as projections of halibut fishing effort for 2024. With the above management measures in place, the projected charter harvest is expected to meet the 810,000 lb. charter halibut allocation for Area 2C.

Management Measures for Charter Vessel Fishing in Area 3A

For 2024, the IPHC adopted the following management measures for Area 3A: 1) a two-fish daily bag limit that allows one fish of any size and a 28-inch (71.1 cm) maximum size limit for the other halibut; 2) a one-trip per day limit for charter halibut permits and charter vessels for the entire season; and 3) a prohibition on halibut retention by charter vessel anglers on all Wednesdays.

The Area 3A management measures for 2024 are less conservative than those imposed in 2023. The NPFMC and IPHC considered information on charter removals in 2023 and for previous years, the projections of charter harvest in 2024, and the 2024 charter allocation. With this information, the NPFMC and IPHC determined that less restrictive management measures in Area 3A, relative to the 2023 measures, were appropriate to limit charter removals to the 2024 charter allocation. The projected charter harvest for 2024 under the combination of recommended measures is 1,880,000 lb (852.8 mt), which is 10,000 lb (4.5 mt) and 0.5 percent below the charter allocation.

In addition to the daily bag and size limits noted above, the NPFMC recommended and the IPHC adopted a closure on charter vessel anglers retaining halibut on all Wednesdays. Retention of GAF halibut is allowed on charter vessels on Wednesdays, but all other halibut that are caught while fishing on a charter vessel on Wednesdays must be released. The day of week closures in Area 3A effectively decrease the charter halibut harvest to help stay within the allocation.

In Area 3A, charter halibut permits and charter vessels in 2024 are authorized for use to catch and retain halibut on one charter halibut fishing trip per day. If no halibut are retained during a charter vessel fishing trip, the charter halibut permit and charter vessel may be used to take an additional trip to catch and retain halibut that day. These regulations have been in place each year since 2016 and have proven effective in controlling halibut harvests.

For purposes of the trip limit in Area 3A in 2024, a charter vessel fishing trip will end when any angler or halibut is offloaded, or at the end of the calendar day, whichever comes first. A charter halibut permit or charter vessel may conduct overnight trips since charter vessel anglers may retain a bag limit of halibut on two calendar days. But a charter halibut permit or charter vessel cannot be used to begin another overnight trip until the day after the previous charter vessel fishing trip ends. As noted above, GAF are exempt from charter halibut management measures, including trip limits. Therefore, a charter halibut permit and a charter vessel may be used to harvest GAF on a second charter vessel fishing trip in a day, but only if exclusively GAF are harvested on that trip.

Other Regulatory Amendments

Logbook Requirements

To reflect current and future conditions in the commercial halibut fisheries and to add clarity to the regulations that require the logging of these fishing activities, the IPHC adopted several changes to Section 19 of the IPHC regulations to:

(1) Align regulations between United States and Canada fisheries to clarify that logs not collected by the IPHC during the fishing season, or otherwise not made available to the IPHC, must be submitted to the agency within 30 days following the end of the season;

(2) Require that fishing locations and fishing activity be recorded using latitude and longitude for each day and set of gear. Formerly, the regulations allowed Pacific halibut operators to note their fishing location by naming a direction and distance from a point of land;

(3) Update the names and types of logbooks that are eligible for use to record fishing activity;

(4) Require that writing in the logs be clear and legible;

(5) Clarify that in Alaska, NMFS electronic groundfish logbooks may be used to record halibut harvests, provided the logbooks have been approved by NMFS; and

(6) Clarify that electronic IPHC logbooks may be used to record halibut harvests, provided the logbooks have been approved by the IPHC.

Both items (5) and (6) above address third-party electronic logbooks that may be developed and become available for use by Pacific halibut fishing vessel operators in the future. The addition of these paragraphs in section 19 ensures that NMFS and IPHC data collections are maintained and existing data-sharing agreements between the agencies are supported as new forms of logbooks become available.

International Pacific Halibut Commission Fishery Regulations 2024 (Annual Management Measures)

The following annual management measures for the 2024 Pacific halibut fishery are those recommended by the IPHC and accepted by the Secretary of State, with the concurrence of the Secretary of Commerce.

1. Short Title

These Regulations may be cited as the International Pacific Halibut Commission (IPHC) Fishery Regulations (2024).

2. Application

(1) These Regulations apply to persons and vessels fishing for Pacific halibut in, or possessing Pacific halibut taken from, the maritime area as defined in Section 3.

(2) Sections 3 to 8 and 29 apply generally to all Pacific halibut fishing.

(3) Sections 9 to 22 apply to commercial fishing for Pacific halibut.

(4) Section 23 applies to Indigenous fisheries in British Columbia.

(5) Section 24 applies to customary and traditional fishing in Alaska.

(6) Sections 25 to 28 apply to recreational (also called sport) fishing for Pacific halibut.

(7) These Regulations do not apply to fishing operations authorized or conducted by the Commission for research purposes.

3. Definitions

(1) In these Regulations,

(a) “authorized officer” means any State, Federal, or Provincial officer authorized to enforce these Regulations including, but not limited to, the National Marine Fisheries Service (NOAA Fisheries), Department of Fisheries and Oceans (DFO), Alaska Wildlife Troopers (AWT), United States Coast Guard (USCG), Washington Department of Fish and Wildlife (WDFW), the Oregon State Police (OSP), and California Department of Fish and Wildlife (CDFW);

(b) “authorized clearance personnel” means an authorized officer of the United States of America, an authorized representative of the Commission, or a designated fish processor;

(c) “authorized representative of the Commission” means any IPHC employee or contractor authorized to perform any task described in these Regulations.

(d) “charter vessel” outside of Alaska waters means a vessel used for hire in recreational (sport) fishing for Pacific halibut, but not including a vessel without a hired operator, and in Alaska waters means a vessel used while providing or receiving recreational (sport) fishing guide services for Pacific halibut;

(e) “commercial fishing” means fishing, the resulting catch of which is sold or bartered; or is intended to be sold or bartered, other than (i) recreational (sport) fishing; (ii) treaty Indian ceremonial and subsistence fishing as referred to in Section 23; (iii) Indigenous groups fishing in British Columbia as referred to in Section 24; and (iv) customary and traditional fishing as referred to in Section 25 and defined by and regulated pursuant to NOAA Fisheries regulations published at 50 CFR part 300;

(f) “Commission” or “IPHC” means the International Pacific Halibut Commission;

(g) “daily bag limit” means the maximum number of Pacific halibut a person may take in any calendar day from Convention waters;

(h) “fishing” means the taking, harvesting, or catching of fish, or any activity that can reasonably be expected to result in the taking, harvesting, or catching of fish, including specifically the deployment of any amount or component part of gear anywhere in the maritime area;

(i) “fishing period limit” means the maximum amount of Pacific halibut that may be retained and landed by a vessel during one fishing period;

(j) “land” or “offload” with respect to Pacific halibut, means the removal of Pacific halibut from the catching vessel;

(k) “permit” means a Pacific halibut fishing license issued by NOAA Fisheries;

(l) “maritime area,” in respect of the fisheries jurisdiction of a Contracting Party, includes without distinction areas within and seaward of the territorial sea and internal waters of that Party;

(m) “net weight” of a Pacific halibut means the weight of Pacific halibut that is without gills and entrails, head-off, washed, and without ice and slime. If a Pacific halibut is weighed with the head on or with ice and slime, the required conversion factors for calculating net weight are a 2 percent deduction for ice and slime and a 10 percent deduction for the head;

(n) “operator,” with respect to any vessel, means the owner and/or the master or other individual on board and in charge of that vessel;

(o) “overall length” of a vessel means the horizontal distance, rounded to the nearest foot, between the foremost part of the stem and the aftermost part of the stern (excluding bowsprits, rudders, outboard motor brackets, and similar fittings or attachments);

(p) “person” includes an individual, corporation, firm, or association;

(q) “regulatory area” means an IPHC Regulatory Area referred to in Section 4;

(r) “setline gear” means one or more stationary, buoyed, and anchored lines with hooks attached;

(s) “sport fishing” or “recreational fishing” means all fishing other than i) commercial fishing; ii) treaty Indian ceremonial and subsistence fishing as referred to in Section 23; iii) Indigenous groups fishing in British Columbia as referred to in Section 24; and iv) customary and traditional fishing as referred to in Section 25 and defined in and regulated pursuant to NOAA Fisheries regulations published in 50 CFR part 300;

(t) “tender” means any vessel that buys or obtains fish directly from a catching vessel and transports it to a port of landing or fish processor;

(u) “total constant exploitation yield (TCEY)” means the mortality comprised of Pacific halibut from directed fisheries and that from non-directed fisheries greater than 26 inches (66 cm) in length;

(v) “VMS transmitter” means a NOAA Fisheries-approved vessel monitoring system transmitter that automatically determines a vessel's position and transmits it to a NOAA Fisheries-approved communications service provider.¹

¹ Call NOAA Enforcement Division, Alaska Region, at 907-586-7225 between the hours of 0800 and 1600 local time for a list of NOAA Fisheries-approved VMS transmitters and communications service providers.

(2) In these Regulations, all bearings are true and all positions are determined by the most recent charts issued by the United States National Ocean Service or the Canadian Hydrographic Service.

4. IPHC Regulatory Areas

The following areas within the IPHC Convention waters shall be defined as IPHC Regulatory Areas for the purposes of the Convention (see Figure 1):

(1) IPHC Regulatory Area 2A includes all waters off the states of California, Oregon, and Washington;

(2) IPHC Regulatory Area 2B includes all waters off British Columbia;

(3) IPHC Regulatory Area 2C includes all waters off Alaska that are east of a line running 340° true from Cape Spencer Light (58°11′56″ N latitude, 136°38′26″ W longitude) and south and east of a line running 205° true from said light;

(4) IPHC Regulatory Area 3A includes all waters between Area 2C and a line extending from the most northerly point on Cape Aklek (57°41′15″ N latitude, 155°35′00″ W longitude) to Cape Ikolik (57°17′17″ N latitude, 154°47′18″ W longitude), then along the Kodiak Island coastline to Cape Trinity (56°44′50″ N latitude, 154°08′44″ W longitude), then 140° true;

(5) IPHC Regulatory Area 3B includes all waters between Area 3A and a line extending 150° true from Cape Lutke (54°29′00″ N latitude, 164°20′00″ W longitude) and south of 54°49′00″ N latitude in Isanotski Strait;

(6) IPHC Regulatory Area 4A includes all waters in the Gulf of Alaska west of Area 3B and in the Bering Sea west of the closed area defined in Section 10 that are east of 172°00′00″ W longitude and south of 56°20′00″ N latitude;

(7) IPHC Regulatory Area 4B includes all waters in the Bering Sea and the Gulf of Alaska west of IPHC Regulatory Area 4A and south of 56°20′00″ N latitude;

(8) IPHC Regulatory Area 4C includes all waters in the Bering Sea north of IPHC Regulatory Area 4A and north of the closed area defined in Section 10 which are east of 171°00′00″ W longitude, south of 58°00′00″ N latitude, and west of 168°00′00″ W longitude;

(9) IPHC Regulatory Area 4D includes all waters in the Bering Sea north of IPHC Regulatory Areas 4A and 4B, north and west of IPHC Regulatory Area 4C, and west of 168°00′00″ W longitude; and

(10) IPHC Regulatory Area 4E includes all waters in the Bering Sea north and east of the closed area defined in Section 10, east of 168°00′00″ W longitude, and south of 65°34′00″ N latitude.

5. Mortality and Fishery Limits

(1) The Commission has adopted the following distributed mortality (TCEY) limits:

IPHC regulatory area | Distributed mortality limits (TCEY) (net weight): Tonnes (t) | Distributed mortality limits (TCEY) (net weight): Million pounds (Mlb)
Area 2A (California, Oregon, and Washington) | 748 | 1.65
Area 2B (British Columbia) | 2,935 | 6.47
Area 2C (southeastern Alaska) | 2,626 | 5.79
Area 3A (central Gulf of Alaska) | 5,153 | 11.36
Area 3B (western Gulf of Alaska) | 1,565 | 3.45
Area 4A (eastern Aleutians) | 730 | 1.61
Area 4B (central and western Aleutians) | 567 | 1.25
Areas 4CDE (Bering Sea) | 1,678 | 3.70
Total | 16,003 | 35.28

(2) The fishery limits resulting from the IPHC-adopted distributed mortality (TCEY) limits and the existing Contracting Party catch sharing arrangements are as follows, recognizing that each Contracting Party may implement more restrictive limits:

IPHC regulatory area | Fishery limits (net weight): Tonnes (t) | Fishery limits (net weight): Million pounds (Mlb) *
Area 2A (California, Oregon, and Washington) | 667 | 1.47
Non-treaty directed commercial (south of Pt. Chehalis) | 113 | * 249,338
Non-treaty incidental catch in salmon troll fishery | 20 | * 44,001
Non-treaty incidental catch in sablefish fishery (north of Pt. Chehalis) | 23 | * 50,000
Treaty Indian commercial | 224 | * 494,280
Treaty Indian ceremonial and subsistence (year-round) | 9 | * 20,220
Recreational—Washington | 132 | * 290,158
Recreational—Oregon | 129 | * 283,784
Recreational—California | 17 | * 38,220
Area 2B (British Columbia) (combined commercial and recreational) | 2,522 | 5.56
Commercial fishery | 2,145 | 4.73
Recreational fishery | 376 | 0.83
Area 2C (southeastern Alaska) (combined commercial and guided recreational) | 2,005 | 4.42
Commercial fishery (includes 3.50 Mlb landings and 0.11 Mlb discard mortality) | 1,637 | 3.61
Guided recreational fishery (includes landings and discard mortality) | 367 | 0.81
Area 3A (central Gulf of Alaska) (combined commercial and guided recreational) | 4,536 | 10.00
Commercial fishery (includes 7.56 Mlb landings and 0.54 Mlb discard mortality) | 3,674 | 8.10
Guided recreational fishery (includes landings and discard mortality) | 857 | 1.89
Area 3B (western Gulf of Alaska) | 1,352 | 2.98
Area 4A (eastern Aleutians) | 581 | 1.28
Area 4B (central and western Aleutians) | 494 | 1.09
Areas 4CDE | 934 | 2.06
Area 4C (Pribilof Islands) | 417 | 0.92
Area 4D (northwestern Bering Sea) | 417 | 0.92
Area 4E (Bering Sea flats) | 100 | 0.22
Total | 13,091 | 28.86
* Allocations resulting from the IPHC Regulatory Area 2A Catch Share Plan are listed in pounds.
** In IPHC Regulatory Area 2A, the USA (NOAA Fisheries) may take in-season action to reallocate the recreational fishery limits between Washington, Oregon, and California after determining that such action will not result in exceeding the overall IPHC Regulatory Area 2A recreational fishery limit and that such action is consistent with any domestic catch sharing plan. Any such reallocation will be announced by the USA (NOAA Fisheries) and published in the Federal Register.

6. In-Season Actions

(1) The Commission is authorized to establish or modify regulations during the season after determining that such action:

(a) will not result in exceeding the fishery limit established preseason for each IPHC Regulatory Area;

(b) is consistent with the Convention between Canada and the United States of America for the Preservation of the Halibut Fishery of the Northern Pacific Ocean and Bering Sea, and applicable domestic law of either Canada or the United States of America; and

(c) is consistent, to the maximum extent practicable, with any domestic catch sharing plans or other domestic allocation programs developed by the governments of Canada or the United States of America.

(2) In-season actions may include, but are not limited to, establishment or modification of the following:

(a) closed areas;

(b) fishing periods;

(c) fishing period limits;

(d) gear restrictions;

(e) recreational (sport) bag limits;

(f) size limits; or

(g) vessel clearances.

(3) In-season changes will be effective at the time and date specified by the Commission.

(4) The Commission will announce in-season actions under this Section by providing notice to major Pacific halibut processors; Federal, State, United States of America treaty Indian, and Provincial fishery officials; and the media.

(5) Notwithstanding paragraphs (3) and (4) of this Section, in IPHC Regulatory Area 2A the USA (NOAA Fisheries) may take in-season action to reallocate the recreational fishery limits between Washington, Oregon, and California after determining that such action will not result in exceeding the overall IPHC Regulatory Area 2A recreational fishery limit and that such action is consistent with any domestic catch sharing plan. Any such reallocation will be announced by the USA (NOAA Fisheries) and published in the Federal Register.

7. Careful Release of Pacific Halibut

(1) All Pacific halibut that are caught and are not retained shall be immediately released outboard of the roller and returned to the sea with a minimum of injury by:

(a) hook straightening;

(b) cutting the gangion near the hook; or

(c) carefully removing the hook by twisting it from the Pacific halibut with a gaff.

(2) Except that paragraph (1) shall not prohibit the possession of Pacific halibut on board a vessel that has been brought aboard to be measured to determine if the applicable size limit of the Pacific halibut is met and, if not legal-sized, is promptly returned to the sea with a minimum of injury.

8. Retention of Tagged Pacific Halibut

(1) Nothing contained in these Regulations prohibits any vessel at any time from retaining and landing a Pacific halibut that bears a Commission external tag at the time of capture, if the Pacific halibut with the tag still attached is reported at the time of landing and made available for examination by an authorized representative of the Commission or by an authorized officer.

(2) After examination and removal of the tag by an authorized representative of the Commission or an authorized officer, the Pacific halibut:

(a) may be retained for personal use; or

(b) may be sold only if the Pacific halibut is caught during commercial Pacific halibut fishing and complies with the other commercial fishing provisions of these Regulations.

(3) Any Pacific halibut that bears a Commission external tag will not count against commercial fishing period limits, Individual Vessel Quota (IVQ), Individual Transferable Quota (ITQ), Community Development Quota (CDQ), or Individual Fishing Quota (IFQ), and are not subject to size limits in these regulations, but should still be recorded in the landing record.

(4) Any Pacific halibut that bears a Commission external tag will not count against recreational (sport) daily bag limits or possession limits, may be retained outside of recreational (sport) fishing seasons, and are not subject to size limits in these regulations.

(5) Any Pacific halibut that bears a Commission external tag will not count against daily bag limits, possession limits, or fishery limits in the fisheries described in Section 22(1)(c), Section 23, or Section 24.

9. Commercial Fishing Periods

(1) The fishing periods for each IPHC Regulatory Area apply where the fishery limits specified in Section 5 have not been taken.

(2) Unless the Commission specifies otherwise, commercial fishing for Pacific halibut in all IPHC Regulatory Areas may begin no earlier in the year than 06:00 local time on 15 March.

(3) All commercial fishing for Pacific halibut in all IPHC Regulatory Areas shall cease for the year at 23:59 local time on 7 December.

(4) Regulations pertaining to the non-tribal directed commercial fishing ² periods in IPHC Regulatory Area 2A will be promulgated by NOAA Fisheries and published in the Federal Register. This fishery will occur between the dates and times listed in paragraphs (2) and (3) of this Section.

² The non-tribal directed commercial fishery is restricted to waters that are south of Point Chehalis, Washington, (46°53.30′ N latitude) under regulations promulgated by NOAA Fisheries and published in the Federal Register.

(5) Notwithstanding paragraph (4) of this Section, an incidental catch fishery ³ is authorized during the sablefish seasons in IPHC Regulatory Area 2A in accordance with regulations promulgated by NOAA Fisheries. This fishery will occur between the dates and times listed in paragraphs (2) and (3) of this Section.

³ The incidental fishery during the directed, fixed gear sablefish season is restricted to waters that are north of Point Chehalis, Washington, (46°53.30′ N latitude) under regulations promulgated by NOAA Fisheries at 50 CFR 300.63. Landing restrictions for Pacific halibut retention in the fixed gear sablefish fishery can be found at 50 CFR 660.231.

(6) Notwithstanding paragraph (4) of this Section, an incidental catch fishery is authorized during salmon troll seasons in IPHC Regulatory Area 2A in accordance with regulations promulgated by NOAA Fisheries. This fishery will occur between the dates and times listed in paragraphs (2) and (3) of this Section.

10. Closed Area

All waters in the Bering Sea north of 55°00′00″ N latitude in Isanotski Strait that are enclosed by a line from Cape Sarichef Light (54°36′00″ N latitude, 164°55′42″ W longitude) to a point at 56°20′00″ N latitude, 168°30′00″ W longitude; thence to a point at 58°21′25″ N latitude, 163°00′00″ W longitude; thence to Strogonof Point (56°53′18″ N latitude, 158°50′37″ W longitude); and then along the northern coasts of the Alaska Peninsula and Unimak Island to the point of origin at Cape Sarichef Light are closed to Pacific halibut fishing and no person shall fish for Pacific halibut therein or have Pacific halibut in his/her possession while in those waters except in the course of a continuous transit across those waters. All waters in Isanotski Strait between 55°00′00″ N latitude and 54°49′00″ N latitude are closed to Pacific halibut fishing.

11. Closed Periods

(1) No person shall engage in fishing for Pacific halibut in any IPHC Regulatory Area other than during the fishing periods set out in Section 9 in respect of that area.

(2) No person shall land or otherwise retain Pacific halibut caught outside a fishing period applicable to the IPHC Regulatory Area where the Pacific halibut was taken.

(3) Subject to paragraphs (7), (8), (9), and (10) of Section 17, these Regulations do not prohibit fishing for any species of fish other than Pacific halibut during the closed periods.

(4) Notwithstanding paragraph (3), no person shall have Pacific halibut in his/her possession while fishing for any other species of fish during the closed periods.

(5) No vessel shall retrieve any Pacific halibut fishing gear during a closed period if the vessel has any Pacific halibut on board.

(6) A vessel that has no Pacific halibut on board may retrieve any Pacific halibut fishing gear during the closed period after the operator notifies an authorized officer or an authorized representative of the Commission prior to that retrieval.

(7) After retrieval of Pacific halibut gear in accordance with paragraph (6), the vessel shall submit to a hold inspection at the discretion of the authorized officer or an authorized representative of the Commission.

(8) No person shall retain any Pacific halibut caught on gear retrieved in accordance with paragraph (6).

(9) No person shall possess Pacific halibut on board a vessel in an IPHC Regulatory Area during a closed period unless that vessel is in continuous transit to or within a port in which that Pacific halibut may be lawfully sold.

12. Application of Commercial Fishery Limits

(1) Notwithstanding the fishery limits described in Section 5, regulations pertaining to the division of the IPHC Regulatory Area 2A fishery limit between the non-tribal directed commercial fishery and the incidental catch fishery as described in paragraphs (5) and (6) of Section 9 will be promulgated by NOAA Fisheries and published in the Federal Register.

(2) Notwithstanding the fishery limits described in Section 5, the IPHC Regulatory Area 2A non-tribal directed commercial fishery will close when NOAA Fisheries determines and announces in the Federal Register that the fishery limit has been or is projected to be reached, or on the date when fishing must cease as specified in Section 9, whichever is earlier.

(3) Notwithstanding the fishery limits described in Section 5, the commercial fishing in IPHC Regulatory Area 2B will close only when all Individual Vessel Quota (IVQ) and Individual Transferable Quota (ITQ) assigned by DFO are taken, or on the date when fishing must cease as specified in Section 9, whichever is earlier.

(4) Notwithstanding the fishery limits described in Section 5, IPHC Regulatory Areas 2C, 3A, 3B, 4A, 4B, 4C, 4D, and 4E will each close only when all Individual Fishing Quota (IFQ) and all Community Development Quota (CDQ) issued by NOAA Fisheries have been taken, or on the date when fishing must cease as specified in Section 9, whichever is earlier.

(5) Notwithstanding the fishery limits described in Section 5, the total allowable catch of Pacific halibut that may be taken in the IPHC Regulatory Area 4E directed commercial fishery is equal to the combined annual fishery limits specified for the IPHC Regulatory Areas 4D and 4E CDQ fisheries and any IPHC Regulatory Area 4D IFQ received by transfer by a CDQ organization. The annual IPHC Regulatory Area 4D fishery limit will decrease by the equivalent amount of CDQ and IFQ received by transfer by a CDQ organization taken in IPHC Regulatory Area 4E in excess of the annual IPHC Regulatory Area 4E fishery limit.

(6) Notwithstanding the fishery limits described in Section 5, the total allowable catch of Pacific halibut that may be taken in the IPHC Regulatory Area 4D directed commercial fishery is equal to the combined annual fishery limits specified for IPHC Regulatory Areas 4C and 4D. The annual IPHC Regulatory Area 4C fishery limit will decrease by the equivalent amount of Pacific halibut taken in IPHC Regulatory Area 4D in excess of the annual IPHC Regulatory Area 4D fishery limit.

13. Fishing in IPHC Regulatory Area 2A

(1) No person shall fish for Pacific halibut from a vessel, nor land or retain Pacific halibut on board a vessel, used for commercial fishing in IPHC Regulatory Area 2A, unless issued a permit valid for fishing in IPHC Regulatory Area 2A by NOAA Fisheries according to 50 CFR 300 Subpart E.

(2) It shall be unlawful for any vessel to retain more Pacific halibut than authorized by that vessel's permit in any fishing period for which a fishing period limit is announced by NOAA Fisheries in the Federal Register.

(3) The operator of any vessel that fishes for Pacific halibut during a fishing period when fishing period limits are in effect must, upon commencing an offload of Pacific halibut to a commercial fish processor, completely offload all Pacific halibut on board said vessel to that processor and ensure that all Pacific halibut is weighed and reported on State fish tickets.

(4) The operator of any vessel that fishes for Pacific halibut during a fishing period when fishing period limits are in effect must, upon commencing an offload of Pacific halibut other than to a commercial fish processor, completely offload all Pacific halibut on board said vessel and ensure that all Pacific halibut are weighed and reported on State fish tickets.

(5) The provisions of paragraph (4) are not intended to prevent retail over-the-side sales to individual purchasers so long as all the Pacific halibut on board is ultimately offloaded and reported.

(6) Fishing period limits in IPHC Regulatory Area 2A will be promulgated by NOAA Fisheries and published in the Federal Register and apply only to the non-tribal directed commercial Pacific halibut fishery referred to in paragraph (4) of Section 9.

14. Fishing in IPHC Regulatory Areas 4D and 4E

(1) Section 14 applies only to any person fishing for, or any vessel that is used to fish for, IPHC Regulatory Area 4E Community Development Quota (CDQ) Pacific halibut, IPHC Regulatory Area 4D CDQ Pacific halibut, or IPHC Regulatory Area 4D Individual Fishing Quota (IFQ) received by transfer by a CDQ organization provided that the total annual Pacific halibut catch of that person or vessel is landed at a port within IPHC Regulatory Areas 4E or 4D.

(2) A person may retain Pacific halibut taken with setline gear that are smaller than the size limit specified in Section 18, provided that no person may sell or barter such Pacific halibut.

(3) The manager of a CDQ organization that authorizes persons to harvest Pacific halibut in the IPHC Regulatory Area 4E or 4D CDQ fisheries or IFQ received by transfer by a CDQ organization must report to the Commission the total number and weight of undersized Pacific halibut taken and retained by such persons pursuant to paragraph (2) of this Section. This report, which shall include data and methodology used to collect the data, must be received by the Commission prior to 1 November of the year in which such Pacific halibut were harvested.

15. Vessel Clearance in IPHC Regulatory Area 4

(1) The operator of any vessel that fishes for Pacific halibut in IPHC Regulatory Areas 4A, 4B, 4C, or 4D must obtain a vessel clearance before fishing in any of these areas, and before the landing of any Pacific halibut caught in any of these areas, unless specifically exempted in paragraphs (10), (13), (14), (15), or (16).

(2) An operator obtaining a vessel clearance required by paragraph (1) must obtain the clearance in person from the authorized clearance personnel and sign the IPHC form documenting that a clearance was obtained, except that when the clearance is obtained via VHF radio referred to in paragraphs (5), (8), and (9), the authorized clearance personnel must sign the IPHC form documenting that the clearance was obtained.

(3) The vessel clearance required under paragraph (1) prior to fishing in IPHC Regulatory Area 4A may be obtained only at Nazan Bay on Atka Island, Dutch Harbor, or Akutan, Alaska, from the authorized clearance personnel.

(4) The vessel clearance required under paragraph (1) prior to fishing in IPHC Regulatory Area 4B may only be obtained at Nazan Bay on Atka Island or Adak, Alaska, from the authorized clearance personnel.

(5) The vessel clearance required under paragraph (1) prior to fishing in IPHC Regulatory Area 4C or 4D may be obtained only at St. Paul or St. George, Alaska, from the authorized clearance personnel by VHF radio and allowing the person contacted to confirm visually the identity of the vessel.

(6) The vessel operator shall specify the specific regulatory area in which fishing will take place.

(7) Before unloading any Pacific halibut caught in IPHC Regulatory Area 4A, a vessel operator may obtain the clearance required under paragraph (1) only in Dutch Harbor or Akutan, Alaska, by contacting the authorized clearance personnel.

(8) Before unloading any Pacific halibut caught in IPHC Regulatory Area 4B, a vessel operator may obtain the clearance required under paragraph (1) only in Nazan Bay on Atka Island or Adak, by contacting the authorized clearance personnel by VHF radio or in person.

(9) Before unloading any Pacific halibut caught in IPHC Regulatory Areas 4C and 4D, a vessel operator may obtain the clearance required under paragraph (1) only in St. Paul, St. George, Dutch Harbor, or Akutan, Alaska, either in person or by contacting the authorized clearance personnel. The clearances obtained in St. Paul or St. George, Alaska, can be obtained by VHF radio and allowing the person contacted to confirm visually the identity of the vessel.

(10) Any vessel operator who complies with the requirements in Section 16 for possessing Pacific halibut on board a vessel that was caught in more than one regulatory area in IPHC Regulatory Area 4 is exempt from the clearance requirements of paragraph (1) of this Section, provided that:

(a) the operator of the vessel obtains a vessel clearance prior to fishing in IPHC Regulatory Area 4 in either Dutch Harbor, Akutan, St. Paul, St. George, Adak, or Nazan Bay on Atka Island by contacting the authorized clearance personnel. The clearance obtained in St. Paul, St. George, Adak, or Nazan Bay on Atka Island can be obtained by VHF radio and allowing the person contacted to confirm visually the identity of the vessel. This clearance will list the areas in which the vessel will fish; and

(b) before unloading any Pacific halibut from IPHC Regulatory Area 4, the vessel operator obtains a vessel clearance from Dutch Harbor, Akutan, St. Paul, St. George, Adak, or Nazan Bay on Atka Island by contacting the authorized clearance personnel. The clearance obtained in St. Paul or St. George can be obtained by VHF radio and allowing the person contacted to confirm visually the identity of the vessel. The clearance obtained in Adak or Nazan Bay on Atka Island can be obtained by VHF radio.

(11) Vessel clearances shall be obtained between 0600 and 1800, local time.

(12) No Pacific halibut shall be on board the vessel at the time of the clearances required prior to fishing in IPHC Regulatory Area 4.

(13) Any vessel that is used to fish for Pacific halibut only in IPHC Regulatory Area 4A and lands its total annual Pacific halibut catch at a port within IPHC Regulatory Area 4A is exempt from the clearance requirements of paragraph (1).

(14) Any vessel that is used to fish for Pacific halibut only in IPHC Regulatory Area 4B and lands its total annual Pacific halibut catch at a port within IPHC Regulatory Area 4B is exempt from the clearance requirements of paragraph (1).

(15) Any vessel that is used to fish for Pacific halibut only in IPHC Regulatory Areas 4C or 4D or 4E and lands its total annual Pacific halibut catch at a port within IPHC Regulatory Areas 4C, 4D, 4E, or the closed area defined in Section 10, is exempt from the clearance requirements of paragraph (1).

(16) Any vessel that carries a NOAA Fisheries observer, a NOAA Fisheries electronic monitoring system, or a transmitting VMS transmitter while fishing for Pacific halibut in IPHC Regulatory Areas 4A, 4B, 4C, or 4D and until all Pacific halibut caught in any of these IPHC Regulatory Areas is landed, is exempt from the clearance requirements of paragraph (1) of this Section, provided that:

(a) the operator of the vessel complies with NOAA Fisheries' observer or electronic monitoring regulations published at 50 CFR Subpart E, or vessel monitoring system regulations published at 50 CFR 679.28(f)(3), (4) and (5); and

(b) the operator of the vessel notifies NOAA Fisheries Office for Law Enforcement at 800-304-4846 (select option 1 to speak to an Enforcement Data Clerk) between the hours of 0600 and 0000 (midnight) local time within 72 hours before fishing for Pacific halibut in IPHC Regulatory Areas 4A, 4B, 4C, or 4D and receives a VMS confirmation number.

16. Fishing Multiple Regulatory Areas

(1) Except as provided in this Section, no person shall possess at the same time on board a vessel Pacific halibut caught in more than one IPHC Regulatory Area.

(2) Pacific halibut caught in more than one of the IPHC Regulatory Areas 2C, 3A, 3B, 4A, 4B, 4C, 4D, or 4E may be possessed on board a vessel at the same time only if:

(a) authorized by NOAA Fisheries regulations published at 50 CFR 679.7(f)(4); and

(b) the operator of the vessel identifies the regulatory area in which each Pacific halibut on board was caught by separating Pacific halibut from different areas in the hold, tagging Pacific halibut, or by other means.

17. Fishing Gear

(1) No person shall fish for Pacific halibut using any gear other than hook and line gear,

(a) except that a person may retain Pacific halibut taken with longline or single trap gear if such retention is authorized by DFO as defined by Pacific Fishery Regulations and Conditions of Licence; or

(b) except that a person may retain Pacific halibut taken with longline or single pot gear if such retention is authorized by NOAA Fisheries regulations published at 50 CFR part 679.

(2) No person shall possess Pacific halibut taken with any gear other than hook and line gear,

(a) except that a person may possess Pacific halibut taken with longline or single trap gear if such retention is authorized by DFO as defined by Pacific Fishery Regulations and Conditions of Licence; or

(b) except that a person may possess Pacific halibut taken with longline or single pot gear if such possession is authorized by NOAA Fisheries regulations published at 50 CFR part 679.

(3) No person shall possess Pacific halibut while on board a vessel carrying any trawl nets.

(4) All gear marker buoys carried on board or used by any United States of America vessel used for Pacific halibut fishing shall be marked with one of the following:

(a) the vessel's State license number; or

(b) the vessel's registration number.

(5) The markings specified in paragraph (4) shall be in characters at least four inches in height and one-half inch in width in a contrasting color visible above the water and shall be maintained in legible condition.

(6) All gear marker buoys carried on board or used by a Canadian vessel used for Pacific halibut fishing shall be:

(a) floating and visible on the surface of the water; and

(b) legibly marked with the identification plate number of the vessel engaged in commercial fishing from which that setline is being operated.

(7) No person on board a vessel used to fish for any species of fish anywhere in IPHC Regulatory Area 2A during the 72-hour period immediately before the fishing period for the non-tribal directed commercial fishery shall catch or possess Pacific halibut anywhere in those waters during that Pacific halibut fishing period unless, prior to the start of the Pacific halibut fishing period, the vessel has removed its gear from the water and has either:

(a) made a landing and completely offloaded its catch of other fish; or

(b) submitted to a hold inspection by an authorized officer.

(8) No vessel used to fish for any species of fish anywhere in IPHC Regulatory Area 2A during the 72-hour period immediately before the fishing period for the non-tribal directed commercial fishery may be used to catch or possess Pacific halibut anywhere in those waters during that Pacific halibut fishing period unless, prior to the start of the Pacific halibut fishing period, the vessel has removed its gear from the water and has either:

(a) made a landing and completely offloaded its catch of other fish; or

(b) submitted to a hold inspection by an authorized officer.

(9) No person on board a vessel used to fish for any species of fish anywhere in IPHC Regulatory Areas 2B, 2C, 3A, 3B, 4A, 4B, 4C, 4D, or 4E during the 72-hour period immediately before the opening of the Pacific halibut fishing season shall catch or possess Pacific halibut anywhere in those areas until the vessel has removed all of its gear from the water and has either:

(a) made a landing and completely offloaded its entire catch of other fish; or

(b) submitted to a hold inspection by an authorized officer.

(10) No vessel used to fish for any species of fish anywhere in IPHC Regulatory Areas 2B, 2C, 3A, 3B, 4A, 4B, 4C, 4D, or 4E during the 72-hour period immediately before the opening of the Pacific halibut fishing season may be used to catch or possess Pacific halibut anywhere in those areas until the vessel has removed all of its gear from the water and has either:

(a) made a landing and completely offloaded its entire catch of other fish; or

(b) submitted to a hold inspection by an authorized officer.

(11) Notwithstanding any other provision in these Regulations, a person may retain, possess and dispose of Pacific halibut taken with trawl gear only as authorized by Prohibited Species Donation regulations of NOAA Fisheries.

18. Size Limits

(1) No person shall take or possess any Pacific halibut that:

(a) with the head on, is less than 32 inches (81.3 cm) as measured in a straight line, passing over the pectoral fin from the tip of the lower jaw with the mouth closed, to the extreme end of the middle of the tail, as illustrated in Figure 2; or

(b) with the head removed, is less than 24 inches (61.0 cm) as measured from the base of the pectoral fin at its most anterior point to the extreme end of the middle of the tail, as illustrated in Figure 2.

(2) No person on board a vessel fishing for, or tendering, Pacific halibut in any IPHC Regulatory Area shall possess any Pacific halibut that has had its head removed, except that Pacific halibut frozen at sea with its head removed may be possessed on board a vessel by persons in IPHC Regulatory Areas 2B, 2C, 3A, 3B, 4A, 4B, 4C, 4D, and 4E if authorized by Federal regulations.

(3) The size limit in paragraph (1)(b) will not be applied to any Pacific halibut that has had its head removed after the operator has landed the Pacific halibut.

19. Logs

(1) The operator of any U.S. vessel fishing for Pacific halibut that has an overall length of 26 feet (7.9 meters) or greater shall maintain an accurate log of Pacific halibut fishing operations.

(2) The operator of a vessel fishing in waters in and off Alaska must use one of the following logbooks:

(a) IPHC Pacific halibut logbook (or logbook previously provided by IPHC) or IPHC-approved electronic equivalent;

(b) catcher vessel longline and pot gear Daily Fishing Logbook, or catcher/processor longline and pot gear Daily Cumulative Production Logbook, in electronic or paper form, provided or approved by NOAA Fisheries;

(c) hook-and-line logbook provided by Alaska Longline Fishermen's Association; or

(d) Alaska Department of Fish and Game (ADFG) longline-pot logbook.

(3) The operator of a vessel fishing in IPHC Regulatory Area 2A must use either:

(a) IPHC Pacific halibut logbook (or logbook previously provided by IPHC) or IPHC-approved electronic equivalent;

(b) Oregon Department of Fish and Wildlife (ODFW) Fixed Gear Logbook; or

(c) Pacific Coast Groundfish non-trawl logbook provided by NOAA Fisheries.

(4) The logbooks referred to in paragraphs (2) and (3) must include the following information:

(a) the name of the vessel and the State (ADFG, WDFW, ODFW, or CDFW) or Tribal ID number;

(b) the date(s) upon which the fishing gear is set or retrieved;

(c) the latitude and longitude coordinates for each set;

(d) the number of skates deployed or retrieved, and number of skates lost; and

(e) the total weight or number of Pacific halibut retained for each set.

(5) The logbooks referred to in paragraphs (2) and (3) shall be:

(a) maintained on board the vessel;

(b) updated not later than 24 hours after 0000 (midnight) local time for each day fished and prior to the offloading or sale of Pacific halibut taken during that fishing trip;

(c) retained for a period of two years by the owner or operator of the vessel;

(d) open to inspection by an authorized officer or an authorized representative of the Commission upon demand;

(e) kept on board the vessel when engaged in Pacific halibut fishing, during transits to port of landing, and until the offloading of all Pacific halibut is completed; and

(f) submitted to the Commission within 30 days of the season closing date if not previously collected by an authorized representative of the Commission or otherwise made available to the Commission.

(6) The log referred to in paragraph (1) does not apply to the incidental Pacific halibut fishery during the salmon troll season in IPHC Regulatory Area 2A defined in paragraph (6) of Section 9.

(7) The operator of any Canadian vessel fishing for Pacific halibut shall maintain an accurate record in the British Columbia Integrated Groundfish Fishing Log.

(8) The log referred to in paragraph (7) must include the following information:

(a) the name of the vessel and the DFO vessel registration number;

(b) the date(s) upon which the fishing gear is set and retrieved;

(c) the latitude and longitude coordinates for each set;

(d) the number of skates deployed or retrieved, and number of skates lost; and

(e) the total weight or number of Pacific halibut retained for each set.

(9) The log referred to in paragraph (7) shall be:

(a) maintained on board the vessel;

(b) retained for a period of two years by the owner or operator of the vessel;

(c) open to inspection by an authorized officer or an authorized representative of the Commission upon demand;

(d) kept on board the vessel when engaged in Pacific halibut fishing, during transits to port of landing, and until the offloading of all Pacific halibut is completed;

(e) submitted to the DFO within seven days of offloading; and

(f) submitted to the Commission within seven days of the final offload if not previously collected by an authorized representative of the Commission.

(10) No person shall make a false entry in a log referred to in this Section.

(11) Writing in a log referred to in this Section shall be clear and legible.

20. Receipt and Possession of Pacific Halibut

(1) No person shall receive Pacific halibut caught in IPHC Regulatory Area 2A from a United States of America vessel that does not have on board the permit required by Section 13(1).

(2) No person shall possess on board a vessel a Pacific halibut other than whole or with gills and entrails removed, except that this paragraph shall not prohibit the possession on board a vessel of:

(a) Pacific halibut cheeks cut from Pacific halibut caught by persons authorized to process the Pacific halibut on board in accordance with NOAA Fisheries regulations published at 50 CFR part 679;

(b) fillets from Pacific halibut offloaded in accordance with this Section that are possessed on board the harvesting vessel in the port of landing up to 1800 local time on the calendar day following the offload ⁴; and

⁴ DFO has more restrictive regulations; therefore, Section 20 paragraph (2)(b) does not apply to fish caught in IPHC Regulatory Area 2B or landed in British Columbia.

(c) Pacific halibut with their heads removed in accordance with Section 18.

(3) No person shall offload Pacific halibut from a vessel unless the gills and entrails have been removed prior to offloading.⁵

⁵ DFO did not adopt this regulation; therefore, Section 20 paragraph (3) does not apply to fish caught in IPHC Regulatory Area 2B.

(4) It shall be the responsibility of a vessel operator who lands Pacific halibut to continuously and completely offload at a single offload site all Pacific halibut on board the vessel.

(5) A registered buyer (as that term is defined in regulations promulgated by NOAA Fisheries and codified at 50 CFR part 679) who receives Pacific halibut harvested in Individual Fishing Quota (IFQ) and Community Development Quota (CDQ) fisheries in IPHC Regulatory Areas 2C, 3A, 3B, 4A, 4B, 4C, 4D, and 4E, directly from the vessel operator that harvested such Pacific halibut must weigh all the Pacific halibut received and record the following information on Federal catch reports: date of offload; name of vessel; vessel number (State, Tribal or Federal, not IPHC vessel number); scale weight obtained at the time of offloading, including the scale weight (in pounds) of Pacific halibut purchased by the registered buyer, the scale weight (in pounds) of Pacific halibut offloaded in excess of the IFQ or CDQ, the scale weight of Pacific halibut (in pounds) retained for personal use or for future sale, and the scale weight (in pounds) of Pacific halibut discarded as unfit for human consumption. All Pacific halibut harvested in IFQ or CDQ fisheries in Areas IPHC Regulatory 2C, 3A, 3B, 4A, 4B, 4C, 4D, and 4E, must be weighed with the head on and the head-on weight must be recorded on Federal catch reports as specified in this paragraph, unless the Pacific halibut is frozen at sea and exempt from the head-on landing requirement at Section 18(2).

(6) The first recipient, commercial fish processor, or buyer in the United States of America who purchases or receives Pacific halibut directly from the vessel operator that harvested such Pacific halibut must weigh and record all Pacific halibut received and record the following information on State fish tickets: the date of offload; vessel number (State or Federal, not IPHC vessel number) or Tribal ID number; total weight obtained at the time of offload including the weight (in pounds) of Pacific halibut purchased; the weight (in pounds) of Pacific halibut offloaded in excess of the IFQ, CDQ, or fishing period limits; the weight of Pacific halibut (in pounds) retained for personal use or for future sale; and the weight (in pounds) of Pacific halibut discarded as unfit for human consumption. All Pacific halibut harvested in fisheries in IPHC Regulatory Areas 2A, 2C, 3A, 3B, 4A, 4B, 4C, 4D, and 4E must be weighed with the head on and the head-on weight must be recorded on State fish tickets as specified in this paragraph, unless the Pacific halibut is frozen at sea and exempt from the head-on landing requirement at Section 18(2).

(7) For Pacific halibut landings made in Alaska, the requirements as listed in paragraphs (5) and (6) can be met by recording the information in the Interagency Electronic Reporting Systems, eLandings, in accordance with NOAA Fisheries regulation published at 50 CFR part 679.

(8) The master or operator of a Canadian vessel that was engaged in Pacific halibut fishing must weigh and record all Pacific halibut on board said vessel at the time offloading commences and record on Provincial fish tickets or Federal catch reports: the date; locality; name of vessel; the name(s) of the person(s) from whom the Pacific halibut was purchased; and the scale weight obtained at the time of offloading of all Pacific halibut on board the vessel including the pounds purchased, pounds in excess of Individual Vessel Quota (IVQ) or Individual Transferable Quota (ITQ), pounds retained for personal use, and pounds discarded as unfit for human consumption. All Pacific halibut must be weighed with the head on and the head-on weight must be recorded on the Provincial fish tickets or Federal catch reports as specified in this paragraph, unless the Pacific halibut is frozen at sea and exempt from the head-on landing requirement at Section 18(2).

(9) No person shall make a false entry on a State or Provincial fish ticket or a Federal catch or landing report referred to in paragraphs (5), (6), and (8) of this Section.

(10) A copy of the fish tickets or catch reports referred to in paragraphs (5), (6), and (8) shall be:

(a) retained by the person making them for a period of three years from the date the fish tickets or catch reports are made; and

(b) open to inspection by an authorized officer or an authorized representative of the Commission.

(11) No person shall possess any Pacific halibut taken or retained in contravention of these Regulations.

(12) When Pacific halibut are landed to other than a commercial fish processor, the records required by paragraph (6) shall be maintained by the operator of the vessel from which that Pacific halibut was caught, in compliance with paragraph (10).

(13) No person shall tag Pacific halibut unless the tagging is authorized by IPHC or by a Federal or State agency.

21. Supervision of Unloading and Weighing

(1) The unloading and weighing of Pacific halibut may be subject to the supervision of authorized officers to assure the fulfillment of the provisions of these Regulations.

(2) The unloading and weighing of Pacific halibut may be subject to sampling by an authorized representative of the Commission.

22. Fishing by United States Indian Tribes

(1) Pacific halibut fishing in IPHC Regulatory Area Subarea 2A-1 by members of United States treaty Indian tribes located in the State of Washington shall be regulated under regulations promulgated by NOAA Fisheries and published in the Federal Register:

(a) Subarea 2A-1 includes the usual and accustomed fishing areas for Pacific Coast treaty tribes off the coast of Washington and all inland marine waters of Washington north of Point Chehalis (46°53.30′ N lat.), including Puget Sound. Boundaries of a tribe's fishing area may be revised as ordered by a United States Federal court;

(b) Section 13(1) does not apply to commercial fishing for Pacific halibut in Subarea 2A-1 by Indian tribes; and

(c) ceremonial and subsistence fishing for Pacific halibut in Subarea 2A-1 is permitted with hook and line gear from 1 January through 31 December.

(2) In IPHC Regulatory Area 2C, the Metlakatla Indian Community has been authorized by the United States Government to conduct a commercial Pacific halibut fishery within the Annette Islands Reserve. Fishing periods for this fishery are announced by the Metlakatla Indian Community and the Bureau of Indian Affairs. Landings in this fishery are accounted with the commercial landings for IPHC Regulatory Area 2C.

(3) Section 7 (careful release of Pacific halibut), Section 17 (fishing gear), except paragraphs (7) and (8) of Section 17, Section 18 (size limits), Section 19 (logs), and Section 20 (receipt and possession of Pacific halibut) apply to commercial fishing for Pacific halibut by Indian tribes.

Regulations in paragraph (3) of this Section that apply to State fish tickets apply to Tribal tickets that are authorized by WDFW and ADFG.

(5) Commercial fishing for Pacific halibut is permitted with hook and line gear between the dates specified in Section 9 paragraphs (2) and (3), or until the applicable fishery limit specified in Section 5 is taken, whichever occurs first.

23. Indigenous Groups Fishing for Food, Social and Ceremonial Purposes in British Columbia

(1) Fishing for Pacific halibut for food, social and ceremonial purposes by Indigenous groups in IPHC Regulatory Area 2B shall be governed by the Fisheries Act of Canada and regulations as amended from time to time.

24. Customary and Traditional Fishing in Alaska

(1) Customary and traditional fishing for Pacific halibut in IPHC Regulatory Areas 2C, 3A, 3B, 4A, 4B, 4C, 4D, and 4E shall be governed pursuant to regulations promulgated by NOAA Fisheries and published in 50 CFR part 300.

(2) Customary and traditional fishing is authorized from 1 January through 31 December.

25. Recreational (Sport) Fishing for Pacific Halibut—General

(1) No person shall engage in recreational (sport) fishing for Pacific halibut using gear other than a single line with no more than two hooks attached; or a spear.

(2) Any size limit promulgated under IPHC or domestic regulations shall be measured in a straight line passing over the pectoral fin from the tip of the lower jaw with the mouth closed, to the extreme end of the middle of the tail as depicted in Figure 2.

(3) Any Pacific halibut brought aboard a vessel and not immediately returned to the sea with a minimum of injury will be included in the daily bag limit of the person catching the Pacific halibut.

(4) No person may possess Pacific halibut on a vessel while fishing in a closed area.

(5) No Pacific halibut caught by recreational (sport) fishing shall be offered for sale, sold, traded, or bartered.

(6) No Pacific halibut caught in recreational (sport) fishing shall be possessed on board a vessel when other fish or shellfish aboard said vessel are destined for commercial use, sale, trade, or barter.

(7) The operator of a charter vessel shall be liable for any violations of these Regulations committed by an angler on board said vessel. In Alaska, the charter vessel guide, as defined in 50 CFR 300.61 and referred to in 50 CFR 300.65, 300.66, and 300.67, shall be liable for any violation of these Regulations committed by an angler on board a charter vessel.

26. Recreational (Sport) Fishing for Pacific Halibut—IPHC Regulatory Area 2A

(1) The Commission shall determine and announce closing dates to the public for any area in which the fishery limits promulgated by NOAA Fisheries are estimated to have been taken.

(2) When the Commission has determined that a subquota under paragraph (7) of this Section is estimated to have been taken, and has announced a date on which the season will close, no person shall recreational (sport) fish for Pacific halibut in that area after that date for the rest of the year, unless a reopening of that area for recreational (sport) Pacific halibut fishing is scheduled in accordance with the Catch Sharing Plan for IPHC Regulatory Area 2A, or announced by the Commission.

(3) No person shall fish for Pacific halibut from a vessel, nor land or retain Pacific halibut on board a vessel, used as a charter vessel in IPHC Regulatory Area 2A, unless issued a permit valid for fishing in IPHC Regulatory Area 2A by NOAA Fisheries according to 50 CFR 300 Subpart E.

(4) In California, Oregon, or Washington, no person shall fillet, mutilate, or otherwise disfigure a Pacific halibut in any manner that prevents the determination of minimum size or the number of fish caught, possessed, or landed.

(5) The possession limit on a vessel for Pacific halibut in the waters off the coast of Washington is the same as the daily bag limit. The possession limit for Pacific halibut on land in Washington is two daily bag limits.

(6) The possession limit on a vessel for Pacific halibut caught in the waters off the coast of Oregon is the same as the daily bag limit. The possession limit for Pacific halibut on land in Oregon is three daily bag limits.

(7) The possession limit on a vessel for Pacific halibut caught in the waters off the coast of California is one daily bag limit. The possession limit for Pacific halibut on land in California is one daily bag limit.

(8) Specific regulations describing fishing periods, fishery limits, fishing dates, and daily bag limits are promulgated by NOAA Fisheries and published in the Federal Register.

27. Recreational (Sport) Fishing for Pacific Halibut—IPHC Regulatory Area 2B

(1) In all waters off British Columbia: 6 7

⁶ DFO could implement more restrictive regulations for the recreational (sport) fishery, therefore anglers are advised to check the current Federal or Provincial regulations prior to fishing.

⁷ For regulations on the experimental recreational fishery implemented by DFO check the current Federal or Provincial regulations.

(a) the recreational (sport) fishing season will open on 1 February;

(b) the recreational (sport) fishing season will close when the recreational (sport) fishery limit allocated by DFO is taken, or 31 December, whichever is earlier; and

(c) the daily bag limit is two (2) Pacific halibut of any size per day, per person, and may be increased to a daily bag limit of three (3) Pacific halibut per day, per person on or after 1 August. This provision shall remain in effect through 2025, unless extended by a vote of the Commission.

(2) In British Columbia, no person shall fillet, mutilate, or otherwise disfigure a Pacific halibut in any manner that prevents the determination of minimum size or the number of fish caught, possessed, or landed.

(3) The possession limit for Pacific halibut in the waters off the coast of British Columbia is three Pacific halibut.6 7

28. Recreational (Sport) Fishing for Pacific Halibut—IPHC Regulatory Areas 2C, 3A, 3B, 4A, 4B, 4C, 4D, 4E

(1) In Convention waters in and off Alaska: 8 9

⁸ NOAA Fisheries could implement more restrictive regulations for the recreational (sport) fishery or components of it, therefore, anglers are advised to check the current Federal or State regulations prior to fishing.

⁹ Under regulations promulgated by NOAA Fisheries at 50 CFR 300.66(u), it is unlawful for any person to be a charter vessel guide of a charter vessel on which one or more charter vessel anglers are catching and retaining Pacific halibut in both IPHC Regulatory Areas 2C and 3A during one charter vessel fishing trip.

(a) the recreational (sport) fishing season is from 1 February to 31 December;

(b) the daily bag limit is two Pacific halibut of any size per day per person unless a more restrictive bag limit applies in Commission regulations or Federal regulations at 50 CFR 300.65;

(c) no person may possess more than two daily bag limits;

(d) no person shall possess on board a vessel, including charter vessels and pleasure craft used for fishing, Pacific halibut that have been filleted, mutilated, or otherwise disfigured in any manner, except that each Pacific halibut may be cut into no more than 2 ventral pieces, 2 dorsal pieces, and 2 cheek pieces, with a patch of skin on each piece, naturally attached. Either one dorsal piece or one ventral piece from one Pacific halibut on board may be consumed;

(e) Pacific halibut in excess of the possession limit in paragraph (1)(c) of this Section may be possessed on a vessel that does not contain recreational (sport) fishing gear, fishing rods, hand lines, or gaffs;

(f) Pacific halibut harvested on a charter vessel fishing trip in IPHC Regulatory Areas 2C or 3A must be retained on board the charter vessel on which the Pacific halibut was caught until the end of the charter vessel fishing trip as defined at 50 CFR 300.61;

(g) guided angler fish (GAF), as described at 50 CFR 300.65, may be used to allow a charter vessel angler to harvest additional Pacific halibut up to the limits in place for unguided anglers, and are exempt from the requirements in paragraphs (2) and (3) of this Section; and

(h) if there is an annual limit on the number of Pacific halibut that may be retained by a charter vessel angler as defined at 50 CFR 300.61, for purposes of enforcing the annual limit, each charter vessel angler must:

(1) maintain a nontransferable harvest record in the angler's possession if retaining a Pacific halibut for which an annual limit has been established. Such harvest record must be maintained either on the angler's State of Alaska recreational (sport) fishing license, an ADFG approved electronic harvest record, or on a Sport Fishing Harvest Record Card obtained, without charge, from ADFG offices, the ADFG website, or fishing license vendors;

(2) immediately upon retaining a Pacific halibut for which an annual limit has been established, permanently and legibly record the date, location (IPHC Regulatory Area), and species of the catch (Pacific halibut) on the harvest record; and

(3) record the information required by paragraph 1(h)(2) on any duplicate or additional recreational (sport) fishing license issued to the angler, duplicate electronic harvest record, or any duplicate or additional Sport Fishing Harvest Record Card obtained by the angler for all Pacific halibut previously retained during that year that were subject to the harvest record reporting requirements of this Section.

(2) For guided recreational (sport) fishing (as referred to in 50 CFR 300.65) in IPHC Regulatory Area 2C:

(a) no person on board a charter vessel (as referred to in 50 CFR 300.65) shall catch and retain more than one Pacific halibut per calendar day; and

(b) no person on board a charter vessel (as referred to in 50 CFR 300.65) shall catch and retain from, 1 February to 14 July, any Pacific halibut that with head on is greater than 40 inches (101.6 cm) and less than 80 inches (203.2 cm), and from 15 July to 31 December, any Pacific halibut that with head on is greater than 36 inches (91.4 cm) and less than 80 inches (203.2 cm), as measured in a straight line, passing over the pectoral fin from the tip of the lower jaw with mouth closed, to the extreme end of the middle of the tail; and

(c) no person on board a charter vessel may catch and retain Pacific halibut on any Friday from 19 July to 13 September.

(3) For guided recreational (sport) fishing (as referred to in 50 CFR 300.65) in IPHC Regulatory Area 3A:

(a) no person on board a charter vessel (as referred to in 50 CFR 300.65) shall catch and retain more than two Pacific halibut per calendar day;

(b) at least one of the retained Pacific halibut must have a head-on length of no more than 28 inches (71.1 cm) as measured in a straight line, passing over the pectoral fin from the tip of the lower jaw with mouth closed, to the extreme end of the middle of the tail. If a person recreational (sport) fishing on a charter vessel in IPHC Regulatory Area 3A retains only one Pacific halibut in a calendar day, that Pacific halibut may be of any length;

(c) a “charter halibut permit” (as referred to in 50 CFR 300.67) may only be used for one charter vessel fishing trip in which Pacific halibut are caught and retained per calendar day. A charter vessel fishing trip is defined at 50 CFR 300.61 as the time period between the first deployment of fishing gear into the water by a charter vessel angler (as defined at 50 CFR 300.61) and the offloading of one or more charter vessel anglers or any Pacific halibut from that vessel. For purposes of this trip limit, a charter vessel fishing trip ends at 2359 (Alaska local time) on the same calendar day that the fishing trip began, or when any anglers or Pacific halibut are offloaded, whichever comes first;

(d) a charter vessel on which one or more anglers catch and retain Pacific halibut may only make one charter vessel fishing trip per calendar day. A charter vessel fishing trip is defined at 50 CFR 300.61 as the time period between the first deployment of fishing gear into the water by a charter vessel angler (as defined at 50 CFR 300.61) and the offloading of one or more charter vessel anglers or any Pacific halibut from that vessel. For purposes of this trip limit, a charter vessel fishing trip ends at 2359 (Alaska local time) on the same calendar day that the fishing trip began, or when any anglers or Pacific halibut are offloaded, whichever comes first; and

(e) no person on board a charter vessel may catch and retain Pacific halibut on any Wednesday.

29. Previous Regulations Superseded

These Regulations shall supersede all previous regulations of the Commission, and these Regulations shall be effective each succeeding year until superseded.

Classification

IPHC Regulations

These IPHC annual management measures are a product of an agreement between the United States and Canada and are published in the Federal Register to provide notice of their effectiveness and content. Pursuant to Section 4 of the Northern Pacific Halibut Act of 1982, 16 U.S.C. 773b, the Secretary of State, with the concurrence of the Secretary of Commerce, may only accept or reject these recommendations of the IPHC. These regulations become effective when such acceptance and concurrence occur. The notice-and-comment and delay-in-effectiveness date provisions of the Administrative Procedure Act (APA), 5 U.S.C. 553(b) and (d), are inapplicable to IPHC management measures because these regulations involve a foreign affairs function of the United States, 5 U.S.C. 553(a)(1). The Secretary of State has no discretion to modify the recommendations of the IPHC. The additional time necessary to comply with the notice-and-comment and delay-in-effectiveness requirements of the APA would disrupt coordinated international conservation and management of the halibut fishery pursuant to the Convention and the Northern Pacific Halibut Act of 1982.

The publication of these regulations in the Federal Register provide the affected public with notice that the IPHC management measures are in effect. Furthermore, no other law requires prior notice and public comment for this rule. Because 5 U.S.C. 553 or any other law does not require prior notice and an opportunity for public comment for this notice of the effectiveness of the IPHC's 2024 management measures, the analytical requirements of the Regulatory Flexibility Act, 5 U.S.C. 601 et seq., are not applicable. This final rule is exempt from review under Executive Order 12866.

The Paperwork Reduction Act of 1995 requires consideration of the impact of recordkeeping and other information collection burdens imposed on the public. Alaska state law establishes information collection requirements regarding harvest records for individual recreational anglers. See Alaska Admin. Code tit. 5, § 75.006(a) (2023). This final rule contains no new recordkeeping requirements beyond those contained in existing Alaska State or Federal law and therefore involves no additional collection of information burden. Moreover, because there is, at present, no annual limit on the number of Pacific halibut that may be retained by a charter vessel angler as defined at 50 CFR 300.61, the recordkeeping requirements referenced in section 29(1)(h) of the IPHC's Annual Management Measures do not apply during 2024.

Authority: 16 U.S.C. 773 et seq.

Dated: March 11, 2024.
Samuel D. Rauch, III,
Deputy Assistant Administer for Regulatory Programs, National Marine Fisheries Service.

[FR Doc. 2024-05481 Filed 3-15-24; 8:45 am]

BILLING CODE 3510-22-P